DEPARTMENT OF ENERGY

[FE Docket Nos. 86-53-NG, 00-03-NG; 99-58-NG; 99-59-NG; 99-93-LNG; 98-81-NG; 00-01-NG; and 00-04-NG]

Office of Fossil Energy; Wessely Marketing Corporation, et al.; Orders Granting, Amending and Vacating Authorizations To Import and Export Natural Gas, Including Liquefied Natural Gas

AGENCY: Office of Fossil Energy, DOE.

ACTION: Notice of Orders.

SUMMARY: The Office of Fossil Energy (FE) of the Department of Energy gives notice that it has issued Orders granting, amending and vacating natural gas, including liquefied natural gas, import and export authorizations.

These Orders are summarized in the attached appendix and may be found on the FE web site at http: //www.fe.doe.gov., or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8:00 a.m. and 4:30 p.m., Monday through Friday, except Federal holidays.

Issued in Washington, DC, on February 9, 2000.
John W. Glynn,
Manager, Natural Gas Regulation, Office of Natural Gas & Petroleum Import & Export Activities, Office of Fossil Energy.

Appendix_Orders Granting, Amending and Vacating Import/Export Authorizations

DOE/FE AUTHORITY

Order No. | Date Issued | Importer/Exporter FE Docket No. | Import Volume | Export Volume | Comments
156-A | 01-07-00 | Wessely Marketing Corporation 86-53-NG |  |  | Vacate blanket authorization.
156 | 01-18-00 | Poco Petroleum, Inc. 00-03-NG | 250 | 250 | Import from Canada over a two year term beginning on the date of first delivery after January 21, 2000
1510-A | 01-18-00 | El Paso Merchant Energy-Gas, L.P. (Formerly El Paso Energy Marketing Company) 99-58-NG |  |  | Name change.
1509-A | 01-18-00 | El Paso Merchant Energy-Gas, L.P. (Formerly El Paso Energy Marketing Company) 99-59-NG |  |  | Name change.
1549-A | 01-21-00 | El Paso Merchant Energy-Gas, L.P. (Successor to Sonat Energy Services Company) 99-93-LNG |  |  | Transfer of long-term LNG import authority.
1427-A | 01-21-00 | Interenergy Resources Corporation 98-81-NG |  |  | Vacate blanket authority.
1564 | 01-21-00 | Texaco Energy Marketing L.P. 00-01-NG | 75 Bcf |  | Import from Canada over a two-year term beginning on the date of first delivery
1565 | 01-21-00 | USGen New England, Inc. 00-04-NG | 47.5 Bcf |  | Import from Canada over a two-year term beginning on February 1, 2000, and extending through January 31, 2002.

[FR Doc. 00-3549 Filed 2-14-00; 8:45 am]

BILLING CODE 6450-01-P